DEPARTMENT OF HEALTH AND HUMAN SERVICES

Centers for Disease Control and Prevention

Notice of Availability of the Final Environmental Assessment (Final EA) and a Finding of No Significant Impact (FONSI) for HHS/CDC Fort Collins Campus Proposed Improvements

AGENCY: Centers for Disease Control and Prevention, Department of Health and Human Services (HHS).

ACTION: Notice of Availability of Final Environmental Assessment and a Finding of No Significant Impact (FONSI) for HHS/CDC Fort Collins Campus Proposed Improvements.

SUMMARY: The Centers for Disease Control and Prevention (CDC), within the Department of Health and Human Services (HHS), is issuing this notice to advise the public that HHS/CDC has prepared and approved on March 22, 2016, a Finding of No Significant Impact (FONSI) based on the Final Environmental Assessment for proposed improvements on the HHS/CDC Fort Collins Campus. HHS/CDC prepared the Final EA in accordance with the National Environmental Policy Act of 1969 (NEPA), as amended (42 U.S.C. 4321 et seq.), the Council on Environmental Quality (CEQ) implementing regulations (40 CFR parts 1500-1508) and the HHS General Administration Manual (GAM) Part 30 Environmental Procedures, dated February 25, 2000. HHS/CDC has determined that the proposed action would not have a significant impact on the human or natural environment and therefore, the preparation of an Environmental Impact Statement is not required.

DATES: The FONSI and Final EA are available as of the publication date of this notice.

ADDRESSES: Copies of the FONSI and Final EA are available at the following locations:

• Old Town Library, 201 Peterson Street, Fort Collins, Colorado 80524.

• Harmony Library, 4616 South Shields, Fort Collins, Colorado 80526.

Copies of the FONSI and/or Final EA can also be requested from: Robert Lawson, Centers for Disease Control and Prevention, Asset Management Services Office, MS K80, 1600 Clifton Road, Atlanta, GA 30329, 770-488-2447.

SUPPLEMENTARY INFORMATION: The Centers for Disease Control and Prevention (CDC), an Operating Division (OPDIV) of the Department of Health and Human Services (HHS) has prepared a Final EA to assess the potential impacts associated with the undertaking of proposed improvements on the HHS/CDC Fort Collins Campus (CDC Fort Collins Campus) located on the Colorado State University (CSU) Foothills Campus in Fort Collins, Colorado. The Final EA analyzed the effects of the Build Alternative (Proposed Action) and the No Build Alternative. The Build Alternative consists of improvements to the CDC Fort Collins Campus which entails the construction of a new approximately 5,600 gsf building which will house laboratory support freezer space and communal space, upgrades to existing parking areas and additional infrastructure improvements. The No Build Alternative represents the continued operation of the existing facilities at the CDC Fort Collins Campus without any new construction or infrastructure upgrades.

The Final EA evaluated the potential impacts to socioeconomics and environmental justice, land use, zoning, public policy, community facilities and services, transportation, air quality, noise, cultural resources, urban design and visual resources, natural resources, utility service, hazardous materials, greenhouse gases and sustainability, and construction. HHS/CDC assessed the potential impacts of the Build Alternative in the Final EA and as a result issued a FONSI indicating that the proposed action will not have a significant impact on the environment.

Dated: March 28, 2016.
Sandra Cashman,
Executive Secretary, Centers for Disease Control and Prevention.

[FR Doc. 2016-07368 Filed 3-31-16; 8:45 am]

BILLING CODE 4163-18-P